DEPARTMENT OF COMMERCE

Foreign-Trade Zones Board

[B-71-2018]

Foreign-Trade Zone (FTZ) 230—Greensboro, North Carolina; Authorization of Production Activity; Patheon Softgels (Pharmaceutical Products), High Point, North Carolina

On November 7, 2018, The Piedmont Triad Partnership, grantee of FTZ 230, submitted a notification of proposed production activity to the FTZ Board on behalf of Patheon Softgels, within Subzone 230C in High Point, North Carolina.

The notification was processed in accordance with the regulations of the FTZ Board (15 CFR part 400), including notice in the Federal Register inviting public comment (83 FR 57409, November 15, 2018). On April 16, 2019, the applicant was notified of the FTZ Board's decision that no further review of the activity is warranted at this time. The production activity described in the notification was authorized, subject to the FTZ Act and the FTZ Board's regulations, including Section 400.14.

Dated: April 16, 2019.
Elizabeth Whiteman,
Acting Executive Secretary.

[FR Doc. 2019-07908 Filed 4-18-19; 8:45 am]

BILLING CODE 3510-DS-P